DEPARTMENT OF HOMELAND SECURITY

Coast Guard

33 CFR Part 165

[Docket No. USCG-2018-0534]

Safety Zones; Annual Fireworks Displays Within the Sector Columbia River Captain of the Port Zone

AGENCY: Coast Guard, DHS.

ACTION: Notice of enforcement of regulation.

SUMMARY: The Coast Guard will enforce regulations for two safety zones at various locations in the Sector Columbia River Captain of the Port zone. This action is necessary to provide for the safety of life on these navigable waters during fireworks displays. During the times these safety zone regulations are subject to enforcement, persons and vessels are prohibited from being in the safety zone unless authorized by the Captain of the Port Sector Columbia River or a designated representative.

DATES: The regulations in 33 CFR 165.1315 will be enforced for the safety zones identified in the SUPPLEMENTARY INFORMATION section below for the dates and times in July 2018 specified in this document.

FOR FURTHER INFORMATION CONTACT: If you have questions about this notice of enforcement, call or email LCDR Laura Springer, Waterways Management Division, Marine Safety Unit Portland, Coast Guard; telephone 503-240-9319, email msupdxwwm@uscg.mil.

SUPPLEMENTARY INFORMATION: These following two safety zones found in 33 CFR 165.1315 will be activated and thus subject to enforcement at least 1 hour before and 1 hour after the duration of the event each day as listed in the following Table:

Table—Dates and Durations in 2018 for Events Listed in 33 CFR 165.1315 and the Location of These Events Within the Sector Columbia River Captain of the Port Zone
Event name (typically) | Event location | Date and duration of event | Latitude | Longitude
Gardiner 4th of July | Gardiner, OR | July 4, 2018, 9:15 p.m. to 10:15 p.m | 43°43′55″ N | 124°06′48″ W
Ilwaco July 4th Committee Fireworks/Independence Day at the Port | Ilwaco, WA | July 7, 2018, 10 p.m. to 10:30 p.m | 46°18′17″ N | 124°02′00″ W

All coordinates are listed in reference Datum NAD 1983. These safety zones cover waters within a 450-yard radius of the barge or other launch site with a “FIREWORKS—DANGER—STAY AWAY” sign at the locations indicated by latitude and longitude coordinates listed in the table above.

In addition to this notice of enforcement in the Federal Register, the Coast Guard plans to provide notification of these enforcement periods via the Local Notice to Mariners.

Dated: June 6, 2018.
D.F. Berliner,
Captain, U.S. Coast Guard, Acting Captain of the Port, Sector Columbia River.

[FR Doc. 2018-12623 Filed 6-11-18; 8:45 am]

BILLING CODE 9110-04-P